DEPARTMENT OF TRANSPORTATION

Federal Aviation Administration

14 CFR Part 39

[Docket No. FAA-2012-0659; Directorate Identifier 2011-SW-061-AD; Amendment 39-17101; AD 2012-12-21]

RIN 2120-AA64

Airworthiness Directives; Eurocopter Deutschland GmbH Helicopters

AGENCY: Federal Aviation Administration (FAA), DOT.

ACTION: Final rule; request for comments.

SUMMARY: We are superseding an existing airworthiness directive (AD) for all Eurocopter Deutschland GmbH (ECD) Model MBB-BK 117 C-2 helicopters. That AD currently requires revising the “Emergency and Malfunction Procedures” and “Performance Data” sections of the Rotorcraft Flight Manual (RFM) by inserting three temporary pages into the RFM to alert pilots to monitor the power display when a generator is deactivated and provides procedures to prevent failure of the remaining generator. Before we issued that AD, the manufacturer developed a procedure to modify the two “After Junction Boxes” by removing a diode from each box, which provides terminating action for our AD requirements. These actions are intended to require implementing this terminating action to prevent an electrical power system failure and subsequent loss of control of the helicopter and revising the RFM accordingly, by removing the temporary pages inserted to comply with the superseded AD.

DATES: This AD becomes effective July 10, 2012.

The Director of the Federal Register approved the incorporation by reference of certain documents listed in this AD as of July 10, 2012.

We must receive comments on this AD by August 24, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket: You may examine the AD docket on the Internet at http://www.regulations.gov or in person at the Docket Operations Office between 9 a.m. and 5 p.m., Monday through Friday, except Federal holidays. The AD docket contains this AD, the economic evaluation, any comments received and other information. The street address for the Docket Operations Office (telephone 800-647-5527) is in the ADDRESSES section. Comments will be available in the AD docket shortly after receipt.

For service information identified in this AD, contact American Eurocopter Corporation, 2701 N. Forum Drive, Grand Prairie, TX 75052, telephone (972) 641-0000 or (800) 232-0323, fax (972) 641-3775, or at http://www.eurocopter.com/techpub. You may review a copy of the service information at the FAA, Office of the Regional Counsel, Southwest Region, 2601 Meacham Blvd., Room 663, Fort Worth, Texas 76137.

FOR FURTHER INFORMATION CONTACT: George Schwab, Aviation Safety Engineer, FAA, Rotorcraft Directorate, Safety Management Group, 2601 Meacham Blvd., Fort Worth, TX 76137, telephone (817) 222-5110, email: george.schwab@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

On September 29, 2011, we issued AD 2011-21-13 (76 FR 68299, November 4, 2011), for all ECD model MBB-BK 117 C-2 helicopters. Our AD 2011-21-13 was based on European Aviation Safety Agency (EASA) Emergency AD No. 2010-0268-E, dated December 21, 2010 (EAD 2010-0268-E), requiring the introduction of additional RFM procedures to monitor the electrical power display generator amperes (GEN AMPS) on the Vehicle and Engine Multifunction Display (VEMD) during switching of the generator. EASA advised that some ECD MBB-BK117 C-2 helicopters detected an excessive current flow when one generator was deactivated. This situation, if not detected and corrected, could lead to failure of the generator, likely resulting in loss of electrical power and inducing loss of systems that are necessary for safe flight. To address this unsafe condition, AD 2011-21-13 requires revising the “Emergency and Malfunction Procedures” and the “Performance Data” sections of the RFM by inserting three temporary pages from ECD Alert Service Bulletin (ASB) No. ASB MBB BK117 C-2-24A-008, dated December 20, 2010 (MBB BK117 C-2-24A-008). Those pages require operators to insert pages into the RFM, which provide that pilots visually monitor the power display GEN AMPS on the VEMD for too high of a current when a generator is shut down, such as during the ENGINE POWER CHECK. These revised RFM provisions provide for switching off the two main electrical buses on the overhead panel to prevent the operating generator from being damaged when the other generator is shut down. We issued AD 2011-21-13 to prevent failure of a generator, which could result in loss of electrical power, loss of systems necessary for flight safety, and subsequent loss of control of the helicopter.

Actions Since Existing AD Was Issued

Before we issued AD 2011-21-13 (76 FR 68299, November 4, 2011), EASA, which is the Technical Agent for the Member States of the European Union, issued EASA AD No. 2011-0162, dated August 30, 2011 (AD 2011-0162). In AD 2011-0162, EASA states that ECD has developed a modification to prevent the possibility of too high current flow when a generator is deactivated, and updated the RFM procedures accordingly. This EASA AD requires the RFM changes introduced by EAD 2010-0268-E to be removed. The EASA AD also requires modification of the Generator Relay left-hand and right-hand After Junction Boxes by removing diodes, CR10007 and CR10008, respectively, on ECD MBB-BK117 C-2 helicopters, serial numbers 9004 through 9500. Through this AD action, the FAA is requiring this same modification to the After Junction Boxes in helicopters registered in the United States and removal of the same pages from the RFM that were introduced by AD 2011-21-13.

FAA's Determination

These helicopters have been approved by the aviation authority of the Federal Republic of Germany (FRG) and are approved for operation in the United States. Pursuant to our bilateral agreement with the FRG, EASA, their technical representative, has notified us of the unsafe condition described in the EASA AD. We are issuing this AD because we evaluated all information provided by EASA and determined the unsafe condition is likely to exist or develop on other helicopters of the same type design.

Related Service Information

We reviewed ECD ASB MBB BK117 C-2-24A-008, Revision 1, dated August 29, 2011. The ASB describes procedures for removing two diodes on the generator relays in the After Junction Boxes. EASA classified this ASB as mandatory and issued AD 2011-0162 to ensure the continued airworthiness of these helicopters.

AD Requirements

This AD requires, within 30 days, removing temporary pages from the RFM that were inserted for AD 2011-21-13. This AD also requires modifying Generator Relay left-hand and right-hand After Junction Boxes by removing diodes, CR10007 and CR10008.

Differences Between This AD and the EASA AD

The EASA AD requires compliance by September 6, 2011; the FAA requires compliance within 30 days from the effective date of the AD.

Costs of Compliance

We estimate that this AD affects 232 helicopters of U.S. Registry. We estimate that operators may incur the following costs in order to comply with this AD. Removing the diodes from the after junction boxes will require 2 work hours at an average labor cost of $85 per hour and incorporating the changes into the RFM will require .5 work hour for a total cost per operator of $213 and a cost to the entire U.S. fleet of $49,416.

FAA's Justification and Determination of the Effective Date

Providing an opportunity for public comments prior to adopting these AD requirements would delay implementing the safety actions needed to correct this known unsafe condition. Therefore, we find that the risk to the flying public justifies waiving notice and comment prior to the adoption of this rule because the required corrective actions must be accomplished within 30 days.

Since an unsafe condition exists that requires the immediate adoption of this AD, we determined that notice and opportunity for public comment before issuing this AD are impracticable and contrary to the public interest and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-16836 (76 FR 68299, November 4, 2011), and adding the following new airworthiness directive (AD):

2012-12-21 Eurocopter Deutschland GMBH: Amendment 39-17101; Docket No. FAA-2012-0659; Directorate Identifier 2011-SW-061-AD.

(a) Applicability

This AD applies to Model MBB-BK 117 C-2 helicopters, certificated in any category.

(b) Unsafe Condition

This AD defines the unsafe condition as excessively high reverse current flow when switching off a generator during flight, which could make the remaining generator fail and result in a complete electrical power system failure and subsequent loss of control of the helicopter.

(c) Other Affected ADs

This AD supersedes AD 2011-21-13, Amendment 39-16836 (76 FR 68299, November 4, 2011).

(d) Compliance

You are responsible for performing each action required by this AD within the specified compliance time unless it has already been accomplished prior to that time.

(e) Required Action

Within 30 days:

(1) Remove the specified temporary pages from the following sections of the rotorcraft flight manual (RFM) RFM BK 117 C-2:

(i) “Emergency and Malfunction Procedures”: pages 3-3 and 3-4, and

(ii) “Performance Data”: page 5-7.

(2) Remove diodes CR10007 and CR10008 from the generator relays in the left-hand and right-hand After Junction Boxes, respectively, in accordance with the Accomplishment Instructions, paragraphs 3.B.2.(a) through 3.B.2.(d), and as depicted in Figures 1 and 2, of Eurocopter Alert Service Bulletin ASB MBB BK117 C-2-24A-008 Revision 1, dated August 29, 2011.

(3) Test the DC Power system for proper operation.

(4) Do not install an After Junction Box on any helicopter, unless the After Junction Box has been modified in accordance with the requirements of this AD.

(f) Alternative Methods of Compliance (AMOCs)

(1) The Manager, Safety Management Group, FAA, may approve AMOCs for this AD. Send your proposal to: George Schwab, Aviation Safety Engineer, FAA, Rotorcraft Directorate, Safety Management Group, 2601 Meacham Blvd., Fort Worth, TX 76137, telephone (817) 222-5114, email: george.schwab@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in the European Aviation Safety Agency AD No. 2011-0162, dated August 30, 2011.

(h) Subject

Joint Aircraft Service Component (JASC) Code: 2435: Starter Generator.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Alert Service Bulletin ASB MBB BK117 C-2-24A-008 Revision 1, dated August 29, 2011.

(ii) Reserved.

(3) For Eurocopter service information identified in this AD, contact American Eurocopter Corporation, 2701 N. Forum Drive, Grand Prairie, TX 75052, telephone (972) 641-0000 or (800) 232-0323, fax (972) 641-3775, or at http://www.eurocopter.com/techpub.

(4) You may view this service information at the FAA, Office of the Regional Counsel, Southwest Region, 2601 Meacham Blvd., Room 663, Fort Worth, Texas 76137.

(5) You may also view this service information at the National Archives and Records Administration (NARA). For information on the availability of this material at NARA, call (202) 741-6030, or go to: http://www.archives.gov/federal_register/code_of_federal_regulations/ibr_locations.html.

Issued in Fort Worth, Texas, on June 14, 2012.
Lance T. Gant,
Acting Manager, Rotorcraft Directorate, Aircraft Certification Service.

[FR Doc. 2012-15325 Filed 6-22-12; 8:45 am]

BILLING CODE 4910-13-P